POSTAL SERVICE

Change in Rates and Classifications of General Applicability for Competitive Products

AGENCY: Postal Service.

ACTION: Notice of a change in rates and classifications of general applicability for competitive products.

SUMMARY: This notice sets forth changes in rates and classifications of general applicability for competitive products.

DATES: Applicability date: January 18, 2026.

FOR FURTHER INFORMATION CONTACT: Elizabeth Reed, 202-268-3179.

SUPPLEMENTARY INFORMATION: On November 13, 2025, pursuant to their authority under 39 U.S.C. 3632, the Governors of the Postal Service established price and classification changes for competitive products. The Governors' Decision and the record of proceedings in connection with such decision are reprinted below in accordance with section 3632(b)(2). Mail Classification Schedule language containing the new prices can be found at www.prc.gov.

Kevin Rayburn,
Attorney, Ethics and Legal Compliance.

Decision of the Governors of the United States Postal Service on Changes in Rates and Classifications of General Applicability for Competitive Products (Governors' Decision No. 25-6)

November 13, 2025

Statement of Explanation and Justification

Pursuant to our authority under section 3632 of title 39, as amended by the Postal Accountability and Enhancement Act of 2006 (“PAEA”), we establish prices and classifications of general applicability for the Postal Service's competitive products. The changes are described generally below, with a detailed description of the changes in the Postal Service's associated draft Mail Classification Schedule change document. That document contains the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 8.0 percent to the Postal Service's institutional costs. Accordingly, no issue of subsidization of competitive products by market dominant products should arise (39 U.S.C. 3633(a)(1)). We therefore find that the new prices and classification changes are in accordance with 39 U.S.C. 3632-3633 and 39 CFR 3035.102 and 104.

I. Domestic Products

A. Priority Mail Express

Overall, the Priority Mail Express price change represents a 5.1 percent increase on average. The existing structure of zoned Retail and Commercial price categories is maintained. Retail prices will increase 5.0 percent on average, while the Commercial price category will increase 5.9 percent on average. The Dimension Noncompliance fee, introduced in 2022 for packages that cause the Postal Service to incur manual handling costs when the dimensions of the package exceed sortation requirements, will increase to $3.00.

B. Priority Mail

On average, Priority Mail prices will be increased by 6.6 percent, and the existing price structure will be maintained.

Retail prices will increase by an average of 6.3 percent. Retail Flat Rate Box prices will be: Small, $12.65; Medium, $22.95; Large, $31.50 and Large APO/FPO/DPO, $30.15. Thus, the Large APO/FPO/DPO Flat Rate Box will be $1.35 less than the Large Flat Rate Box. The regular Flat Rate Envelope will be priced at $11.95, with the Legal Size and Padded Flat Rate Envelopes priced at $12.25 and $12.95, respectively. The Commercial price category will increase by 6.9 percent on average. The Dimension Noncompliance fee for Priority Mail packages will also increase to $3.00.

C. Parcel Select

On average, Parcel Select prices as a whole will increase 6.0 percent. For destination delivery unit (DDU) entered parcels, the average price increase is 5.9 percent. For destination sectional center facility (DSCF) destination entered parcels, the average price increase is 5.9 percent. For Connect Local, introduced in 2022, the average price increase is 4.9 percent. The Dimension Noncompliance fee for Parcel Select packages will also increase to $3.00.

D. USPS Ground Advantage

USPS Ground Advantage, introduced in July 2023, is the Postal Service's flagship ground package product. Overall, USPS Ground Advantage prices will increase 7.8 percent on average, and the existing structure will be maintained. Retail prices will increase 5.9 percent on average, while Commercial prices will increase 9.6 percent on average. The Alaska Limited Overland Routes (LOR) price category will see a 9.9 percent average increase for January 2026. The Dimension Noncompliance fee for USPS Ground Advantage packages will also increase to $3.00.

F. Domestic Extra Services

Premium Forwarding Service (PFS) prices will increase between 6.8 and 6.9 percent in 2026. The retail counter enrollment fee will increase to $28.70. The online enrollment option, introduced in 2014, will increase to $26.40. The weekly reshipment fee will increase to $29.70. The reshipment fee for PFS Local, which was introduced in 2019 for P.O. Box customers, will increase to $29.70. Package Intercept Service will increase to $19.45 in 2026. Adult Signature Service will increase to $9.70, while the in-person option will increase to $10.00. Competitive Post Office Box prices will be increasing 5.7 percent on average, within the existing price ranges. Package Intercept Service will increase to $18.35. The Pickup On Demand fee will remain unchanged for 2026, at $26.50. Premium Data Retention and Retrieval Service (USPS Tracking Plus), which was introduced in 2020, will have its prices remain unchanged for 2026. The fee for Label Delivery Service, introduced in 2023 under the Competitive Ancillary Services product, will increase to $1.65 for 2026. The fee for Forwarding and Returns for Parcel Select will increase to $3.80, and the additional fee for customers using Address Correction Service with Shipper Paid Forwarding/Return, and also using an IMpb, will be $3.20.

Finally, in 2026, the Postal Service is introducing a fee for a new solution, called USPS Delivered Duty Paid (DDP), under the Competitive Ancillary Services product. For this solution, the Postal Service facilitates the sender prepaying any applicable customs duties, taxes, and fees before the item is mailed, as opposed to such charges being due upon delivery. The fee that the Postal Service will charge for facilitating payment does not include any applicable taxes, duties, and non-USPS fees, which are collected separately and passed through to a third party.

II. International Products

A. Expedited Services

Priority Mail Express International (PMEI) will be subject to an overall 5.9 percent increase. Commercial Plus prices will be equivalent to Commercial Base.

B. Priority Mail International

The overall increase for Priority Mail International (PMI) will be 5.9 percent. Commercial Plus prices will be equivalent to Commercial Base.

C. International Priority Airmail

Published prices for International Priority Airmail (IPA) will increase by 5.9 percent.

D. Airmail M-Bags

The published prices for Airmail M-Bags will increase by 44.0 percent. New for 2026, some changes to the product description for Airmail M-Bags will be made to reflect that as of January 1, 2025, at the Universal Postal Union (UPU), M-bags (special bags for printed matter and certain other articles that relate exclusively to the printed matter sent to a single foreign addressee at a single address) became an optional supplementary service for UPU-designated postal operators, and that the United States has provided to the UPU written notification that it will continue to offer M-bag service but opted to restrict the service solely to printed matter.

E. First-Class Package International Service

The overall increase for First-Class Package International Service (FCPIS) prices will be 5.9 percent. Commercial Plus prices will be equivalent to Commercial Base.

F. International Ancillary Services and Special Services

Prices for International Certificate of Mailing will increase by 14.3 percent. Prices for International Insurance will increase by 17.1 percent. Prices for the Customs Clearance and Delivery Fee will increase by 5.6 percent.

Order

The changes in prices and classes set forth herein shall be effective at 12:01 a.m. on January 18, 2026. We direct the Secretary of the Board of Governors Office to have this decision published in the Federal Register in accordance with 39 U.S.C. 3632(b)(2) and direct management to file with the Postal Regulatory Commission appropriate notice of these changes.

By The Governors:

/s/

Amber F. McReynolds

Chairman, Board of Governors.

United States Postal Service Office of the Board of Governors

Certification of Governors' Vote on Governors' Decision No. 25-1

Consistent with 39 U.S.C. 3632(a), I hereby certify that, on November 13, 2025, the Governors voted on adopting Governors' Decision No. 25-6, and that a majority of the Governors then holding office voted in favor of that Decision.

Date: November 13, 2025.

/s/

Lucy C. Trout

Secretary of the Board of Governors.

[FR Doc. 2025-20281 Filed 11-18-25; 8:45 am]

BILLING CODE 7710-12-P